DEPARTMENT OF STATE

[Public Notice: 11665]

Notice of Shipping Coordinating Committee Meeting in Preparation for International Maritime Organization LEG 109 Meeting

The Department of State will conduct a public meeting at 1:00 p.m. on Tuesday, March 15, 2022, by way of teleconference. The primary purpose of the meeting is to prepare for the 109th session of the International Maritime Organization's (IMO) Legal Committee (LEG 109) to be held remotely from March 21 to March 25, 2022.

Members of the public may participate up to the capacity of the teleconference phone line, which can handle 500 participants. To RSVP, participants should contact the meeting coordinator, Mr. Stephen Hubchen, by email at Stephen.K.Hubchen@uscg.mil. To access the teleconference line, participants should call (202) 475-4000 and use Participant Code: 877 239 87#.

The agenda items to be considered at this meeting mirror those to be considered at LEG 109, and include:

—Adoption of the agenda

—Report of the Secretary-General on credentials

—Facilitation of the entry into force and harmonized interpretation of the 2010 HNS Protocol

—Fair treatment of seafarers:

(a) Provision of financial security in case of abandonment of seafarers, and shipowners' responsibilities in respect of contractual claims for personal injury to, or death of, seafarers, in light of the progress of amendments to the ILO Maritime Labour Convention, 2006

(b) Fair treatment of seafarers in the event of a maritime accident

(c) Fair treatment of seafarers detained on suspicion of committing maritime crimes

(d) Guidelines for port State and flag State authorities on how to deal with seafarer abandonment cases

—Advice and guidance in connection with the implementation of IMO instruments

—Measures to prevent unlawful practices associated with the fraudulent registration and fraudulent registries of ships

—Measures to assess the need to amend liability limits

—Claims Manual for the International Convention on Civil Liability for Bunker Oil Pollution Damage, 2001

—Piracy and armed robbery against ships

—Work of other IMO bodies

—Technical cooperation activities related to maritime legislation

—Review of the status of conventions and other treaty instruments emanating from the Legal Committee

—Work programme

—Election of officers

—Any other business

—Consideration of the report of the Committee on its 109th session

Please note: The IMO may, on short notice, adjust the LEG 109 agenda to accommodate the constraints associated with the virtual meeting format. Any changes to the agenda will be reported to those who RSVP.

Those who plan to participate may contact the meeting coordinator, Mr. Stephen Hubchen, by email at Stephen.K.Hubchen@uscg.mil, by phone at (202) 372-1198, or in writing at United States Coast Guard (CG-LMI-P), ATTN: Mr. Stephen Hubchen, 2703 Martin Luther King Jr. Ave. SE, Stop 7509, Washington, DC 20593-7509. Members of the public needing reasonable accommodation should advise Mr. Hubchen not later than March 8, 2022. Requests made after that date will be considered, but might not be possible to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2022-04177 Filed 2-25-22; 8:45 am]

BILLING CODE 4710-09-P